ENVIRONMENTAL PROTECTION AGENCY

[FRL-7451-9]

Recent Posting to the Applicability Determination Index (ADI) Database System of Agency Applicability Determinations, Alternative Monitoring Decisions, and Regulatory Interpretations Pertaining to Standards of Performance for New Stationary Sources, National Emission Standards for Hazardous Air Pollutants, and the Stratospheric Ozone Protection Program

AGENCY: Environmental Protection Agency (EPA).

ACTION: Notice of availability.

SUMMARY: This notice announces applicability determinations, alternative monitoring decisions, and regulatory interpretations that EPA has made under the New Source Performance Standards (NSPS), 40 CFR part 60; the National Emission Standards for Hazardous Air Pollutants (NESHAP), 40 CFR parts 61 and 63; and the Stratospheric Ozone Protection Program, 40 CFR part 82. This notice also clarifies the Notice of Availability published in the Federal Register on November 15, 2001 (66 FR 57453).

FOR FURTHER INFORMATION CONTACT: An electronic copy of each complete document posted on the Applicability Determination Index (ADI) database system is available on the Internet through the Office of Enforcement and Compliance Assurance (OECA) Web site at: http://www.epa.gov/compliance/assistance/applicability. The document may be located by date, author, subpart, or subject search. For questions about the ADI or this notice, contact Maria Malave at EPA by phone at: (202) 564-7027, or by email at: malave.maria@epa.gov. For technical questions about the individual applicability determinations or monitoring decisions, refer to the contact person identified in the individual documents, or in the absence of a contact person, refer to the author of the document.

SUPPLEMENTARY INFORMATION: Background: The General Provisions to the NSPS in 40 CFR part 60 and the NESHAP in 40 CFR part 61 provide that a source owner or operator may request a determination of whether certain intended actions constitute the commencement of construction, reconstruction, or modification. EPA's written responses to these inquiries are broadly termed applicability determinations. See 40 CFR 60.5 and 61.06. Although the 40 CFR part 63 NESHAP and section 111(d) of the Clean Air Act regulations contain no specific regulatory provision that sources may request applicability determinations, EPA does respond to written inquiries regarding applicability for the part 63 and section 111(d) programs. The NSPS and NESHAP also allow sources to seek permission to use monitoring or recordkeeping which is different from the promulgated requirements. See 40 CFR 60.13(i), 61.14(g), 63.8(b)(1), 63.8(f), and 63.10(f). EPA's written responses to these inquiries are broadly termed alternative monitoring decisions. Furthermore, EPA responds to written inquiries about the broad range of NSPS and NESHAP regulatory requirements as they pertain to a whole source category. These inquiries may pertain, for example, to the type of sources to which the regulation applies, or to the testing, monitoring, recordkeeping or reporting requirements contained in the regulation. EPA's written responses to these inquiries are broadly termed regulatory interpretations.

EPA currently compiles EPA-issued NSPS and NESHAP applicability determinations, alternative monitoring decisions, and regulatory interpretations, and posts them on the Applicability Determination Index (ADI) on a quarterly basis. In addition, the ADI contains EPA-issued responses to requests pursuant to the stratospheric ozone regulations, contained in 40 CFR part 82. The ADI is an electronic index on the Internet with over one thousand EPA letters and memoranda pertaining to the applicability, monitoring, recordkeeping, and reporting requirements of the NSPS and NESHAP. The letters and memoranda may be searched by date, office of issuance, subpart, citation, control number or by string word searches.

Today's notice comprises a summary of 55 such documents added to the ADI on December 20, 2002. The subject, author, recipient, date and header of each letter and memorandum are listed in this notice, as well as a brief abstract of the letter or memorandum. Complete copies of these documents may be obtained from the ADI through the OECA Web site at: http://www.epa.gov/compliance/assistance/applicability.

Clarification to November 15, 2001 Notice of Availability

EPA has received questions regarding the applicability of the documents whose availability was noticed in the November 15, 2001 Notice of Availability (66 FR 57453). EPA has reviewed those documents, and through today's notice clarifies that to the extent any of those documents constituted “final action of the Administrator” for purposes of section 307(b)(1) of the Clean Air Act, they were not “nationally applicable” actions within the meaning of section 307(b)(1). For purposes of establishing venue for judicial review of any such document, the document may be considered a “local or regionally applicable” action as that phrase is employed in section 307(b)(1).

Summary of Headers and Abstracts

The following table identifies the database control number for each document posted on the ADI database system on December 20, 2002; the applicable category; the subpart(s) of 40 CFR parts 60, 61, or 63 (as applicable) covered by the document; and the title of the document, which provides a brief description of the subject matter. We have also included an abstract of each document identified with its control number after the table. These abstracts are provided solely to alert the public to possible items of interest and are not intended as substitutes for the full text of the documents.

ADI Determinations Uploaded on December 20, 2002
Control No. | Category | Subpart | Title
A020001 | Asbestos | M | Moving Structures.
M020008 | MACT | RRR | Alternative Scrap Inspection Monitoring.
M020009 | MACT | S | UNOX Alternative Monitoring.
M020010 | MACT | R, CC | Waiver for Backup Portable Combustion Unit.
M020011 | MACT | T | Degreaser Freeboard Temperature Measurement.
M020012 | MACT | RRR | Aluminum Foil Delaminator.
M020013 | MACT | S | Alternative Monitoring.
M020014 | MACT | F, G | Gas Streams Combusted in Fuel Gas System.
M020015 | MACT | T | Cold Clean Operation or Stripping Operation.
M020016 | MACT | T | Cold Clean Operation or Stripping Operation.
M020017 | MACT | RRR | Aluminum Delacquering Kiln & Chip Dryers.
M020018 | MACT | G | Classification of Drains Subject to HON.
M020019 | MACT | LLL | Alternative Testing for Roller Mill Transfer Chutes.
M020020 | MACT | LLL | Alternative Monitoring for Finish Mill Stacks.
M020021 | MACT | LLL | Method 9 Waiver for Portland Cement Facility.
M020022 | MACT | LLL | Method 9 Waiver for Coal Mill Stack.
0200050 | NSPS | GG | Custom Fuel Monitoring.
0200051 | NSPS | GG, A | Initial Performance Test Waiver.
0200052 | NSPS | GG | Custom Fuel Monitoring.
0200053 | NSPS | GG | Custom Fuel Monitoring.
0200054 | NSPS | GG | Custom Testing & CEMS QA/QC Approval.
0200055 | NSPS | O | Alternative Monitoring for Oxygen.
0200056 | NSPS | GG | Exemption for Test Turbine Facility.
0200057 | NSPS | PPP | Definition of Wet Scrubbing Control Devices.
0200058 | NSPS | GG | Alternative Testing for Simple Cycle Gas Turbine Units.
0200059 | NSPS | J | Alternative Monitoring for Portable Combustor at Loading Rack.
0200060 | NSPS | A, J | FCCU Air Grid Replacement.
0200061 | NSPS | WWW | Use of Higher Temperature Operating Value.
0200062 | NSPS | Y, A | Reporting and Recordkeeping Exemption.
0200063 | NSPS | A | Reporting and Recordkeeping Exemption.
0200064 | NSPS | K, Ka, Kb | Custody Transfer Exemption Clarification.
0200065 | NSPS | GG | Custom Fuel Monitoring.
0200066 | NSPS | GG | Custom Fuel Monitoring/Alternate Test Method.
0200067 | NSPS | GG | Alternate Test Method.
0200068 | NSPS | GG | Custom Fuel Monitoring.
0200069 | NSPS | GG, Da | Custom Fuel Monitoring/Alternate Test Plan.
0200070 | NSPS | GG | Custom Fuel Monitoring.
0200071 | NSPS | GG | Custom Fuel Monitoring.
0200072 | NSPS | GG | Custom Fuel Monitoring.
0200073 | NSPS | GG | Custom Fuel Monitoring/Alternate Test Plan.
0200074 | NSPS | Dc | Custom Fuel Usage Monitoring.
0200075 | NSPS | GG, A | Alternate Test Plan.
0200076 | NSPS | J, A | Alternative Monitoring for Refinery Facility.
0200077 | NSPS | GG | Custom Fuel Monitoring.
0200078 | NSPS | GG | Approval of Flow Meters.
0200079 | NSPS | GG | Custom Fuel Monitoring.
0200080 | NSPS | GG | Custom Testing & CEMS QA/QC Approval.
0200081 | NSPS | NNN, RRR | Use of Alternate Control System.
0200082 | NSPS | NNN, RRR | Gas Streams Combusted in a Fuel Gas System.
0200083 | NSPS | AA, AAa | Electric Arc Furnaces.
0200084 | NSPS | DDDD, CCCC | Outdated Pharmaceutical & CISWI.
0200085 | NSPS | H | Definition of Sulfuric Acid Plant.
0200086 | NSPS | OOO, UUU | Lightweight Aggregate Production Facilities.
0200087 | NSPS | OOO, A | Notification & Reporting Requirements.
0200088 | NSPS | OOO | Applicability to Conveyors.

Abstract

Abstract for [A020001]:

Q1: Are residential structures owned by the State subject to the asbestos NESHAP if they have less than four dwelling units?

A1: Yes, if the structures are part of a State project such as road construction or urban renewal.

Q2: Is spray on ceiling texture considered part of the wall system like tape joint compound?

A2: No. The analyses of these individual layers may not be composited with the wallboard analyses.

Q3: If the ceilings are not disturbed or demolished during the move, does the asbestos need to be removed before the move?

A3: Prior to the move, the owner or operator must determine if the move will break up, dislodge, or similarly disturb the asbestos. If such disturbances occur, the owner or operator may be subject to enforcement action.

Q4: Can the State avoid the requirements of the asbestos NESHAP by having the demolition of a residential structure occur prior to the State taking official ownership?

A4: If the structure is part of an installation, as occurs when a group of houses are demolished for a project, such activities would be considered circumvention which is prohibited by the part 61 NESHAP general provisions.

Q5: Is the movement of a single-family home purchased from a private party subject to the asbestos NESHAP?

A5: No, unless the home is part of an installation, planned development, or public project.

Q6: Is the movement of a single-family home purchased from a land developer subject to the asbestos NESHAP?

A6: Yes. Residential structures that are demolished or renovated as part of a commercial or public project are not exempt from the rule.

Q7: Is the movement of a structure that has been used for educational purposes and will contain four or less dwelling units subject to the asbestos NESHAP?

A7: Yes. Mobile classroom structures are considered institutional buildings.

Q8: Is the movement of a single-family home (not modular or mobile) purchased from a house manufacturing company subject to the asbestos NESHAP?

A8: No, based on the limited information provided.

Q9: Is the movement of portable school classrooms subject to the asbestos NESHAP?

A9: Yes. Large mobile structures for public or commercial use are regulated.

Q10: Is the movement of agricultural buildings subject to the asbestos NESHAP?

A10: Agricultural buildings used for commercial purposes, such as a dairy barn or crop storage structure, are subject. However, the rule does not apply to sheds used to store equipment for a homeowner's garden, or to farm stands that sell fresh produce and have no utilities.

Q11: Is the movement of garages subject to the asbestos NESHAP?

A11: Yes, if the residential structure associated with the garage is subject, if the garage is located at a commercial operation, or if the garage itself is used for commerce.

Abstract for [M020008]:

Q: Will EPA approve an alternative scrap inspection monitoring program for a facility that accepts no fabrication or press scrap containing paint or coatings?

A: Yes, provided the facility includes a recordkeeping provision like 40 CFR 63.1510(p)(6).

Abstract for [M020009]:

Q: Can the Boise Cascade paper mill in International Falls, Minnesota use the UNOX system biomass, as calculated using the mixed liquor volatile suspended solids (MLVSS), to meet the continuous monitoring requirements for kraft pulping condensates? The pulp and paper NESHAP does not specify a monitoring parameter for closed biological systems.

A: Yes. The UNOX system destruction efficiency depends on the number of biological organisms in the system, the biomass accounts for the majority of organic solids, and MLVSS is a measure of organic solids. Boise Cascade must use the average MLVSS measured during a compliant performance test as the minimum MLVSS demonstrating continuous compliance.

Abstract for [M020010]:

Q: Will EPA waive the performance test for a backup portable vapor combustion unit that Marathon Ashland Petroleum (MAP) has used at its St. Paul Park, Minnesota refinery to control VOC emissions from a gasoline loading rack during maintenance and repair work on the primary carbon adsorption unit controls?

A: Yes. Tests showed that the unit's VOC emissions were only 15 percent of the emission standard at another MAP location. The unit is scheduled for use at other MAP facilities, and bringing it back to St. Paul Park for a test would not provide any new information.

Abstract for [M020011]:

Q: What is the correct location for measuring freeboard refrigeration temperature in a halogenated solvent cleaning machine?

A: The temperature should be measured in the center of the chilled air blanket, at the center cooling coil of the machine.

Abstract for [M020012]:

Q: Is a facility that includes a chamber that delaminates aluminum foil from paper and plastic subject to the secondary aluminum NESHAP?

A: No. Subpart RRR defines a scrap dryer as a unit used to remove organic contaminants from aluminum scrap prior to melting. No melting occurs at the facility in question, and there are no other affected sources subject to subpart RRR.

Abstract for [M020013]:

Q: Will EPA approve surrogate parameters for daily monitoring of an open biological treatment system?

A: Yes, based on the information submitted, EPA approves the request. However, EPA may require use of another specified monitoring method if it finds reasonable grounds to dispute the results obtained under this alternative monitoring method.

Abstract for [M020014]:

Q: A refinery has process area reactors and distillation columns whose only gas streams are combusted in the refinery's fuel gas system. These gas streams are exempt from any compliance monitoring requirements under 40 CFR part 63, subpart G. Does 40 CFR 63.110(d)(10) also exempt those gas streams from the requirements of NSPS subparts NNN and RRR?

A: No. 40 CFR 63.110(d)(10) does not exempt the gas streams from meeting the requirements of NSPS subparts NNN and RRR.

Abstract for [M020015]:

Q: Do the halogenated solvent cleaner NESHAP standards apply to the process described for stripping epoxy resins from steel bowls?

A. The applicability section of this rule, 40 CFR 63.460(a), states that if any of the named solvents, including methylene chloride, which this facility uses, is used in any of four types of solvent cleaning machines as a cleaning and/or drying agent, then the subpart applies. Although the hand cleaning portion of the removal of the epoxy resin from the steel bowl is exempt from Subpart T, the mechanical cleaning inside the custom design tank is not exempt, but rather is an applicable batch cold cleaning machine under the halogenated solvent MACT standard.

Abstract for [M020016]:

Q: Do the halogenated solvent cleaner NESHAP standards apply to the stripping (thinning/diluting) of a coating of catalyzed epoxy resin in various stages of cure from metal bowls in the following process? The metal bowl is placed upside down in a custom designed tank containing approximately 3″ of Methylene Chloride liquid. The tank cover is closed and spray is directed upward into the part in a 45 minute stripping process. The parts are removed and then hand cleaned about 15 minutes per bowl. Is this a cold cleaning operation or a stripping operation?

A: 40 CFR 63.461 defines a cold cleaning machine as any device or piece of equipment that contains and/or uses liquids, into which parts are placed to remove soils from the surface of the parts. In this case, the cleaning of the parts once they exit the solvent bath using spray headers to begin the stripping process and then the continued cleaning of parts by hand would identify this operation as a stripping operations. Based on the information supplied, EPA has determined that the operation is not subject to the halogenated solvent cleaning NESHAP.

Abstract for [M020017]:

Q1: USGC Almeg has a processing chamber in which foil is delaminated from paper and plastic. This processing chamber operates at a maximum temperature of 900 degrees Fahrenheit; no melting occurs here, nor does melting occur subsequently in any of USGC Almeg's operations. Is USGC Almeg subject to subpart RRR?

A1: Yes. Units that use heat to remove contaminants from scrap aluminum are subject to 40 CFR part 63, subpart RRR, irrespective of whether the aluminum is subsequently melted.

Q2: USGC Almeg has a unit that dries aluminum chips in the absence of any melting of aluminum at the site. Is the unit subject to subpart RRR?

A2: Yes. A device that uses heat to evaporate water, oil, or oil/water mixtures from unpainted/uncoated aluminum chips is subject to the requirements of subpart RRR.

Abstract for [M020018]:

Q: What is the correct wastewater classification of low-point drains which are drained on a routine basis as part of proper function of the process?

A: The procedures followed by Celanese result in process wastewater because the draining of the wastewater is essential to maintaining the proper function of the process equipment; the draining occurs at a frequent, routine, planned interval; and the draining is not done for the purposes of maintenance or repair.

Abstract for [M020019]:

Q: Will EPA approve an alternative initial performance test for roller mill transfer chutes at a Portland cement facility?

A: Yes. Because of the design and operation of the chutes and the nature of the material being processed, EPA believes that emissions are not likely and accordingly approves the request for an alternative initial performance test.

Abstract for [M020020]:

Q: Will EPA approve alternative monitoring using a bag leak detection system in lieu of daily visual observations for finish mill stacks?

A: Yes. EPA approves a request for the use of a bag leak detection system (BLDS) in lieu of daily visual observations on finish mill stacks.

Abstract for [M020021]:

Q: Will EPA approve a waiver from Method 9 initial performance testing for transfer chutes, load spouts and Magnetic Separator Discharge Chute at a Portland cement facility?

A: EPA approves the waiver from Method 9 for transfer chutes, load spouts and Magnetic Separator Discharge Chute at the facility on condition that any change in operation will require further EPA review.

Abstract for [M020022]:

Q: Will EPA approve a waiver from Method 9 initial performance testing and monitoring for the coal mill stack and related air pollution control device at a Portland cement facility?

A: Yes. EPA approves a waiver of performance testing and alternative monitoring for the coal mill stack. Performance test requirements and the monitoring requirements shall be applicable to the main kiln stack and its related air pollution control device.

Abstract for [0200050]:

Q: Can Consolidated Edison Energy Massachusetts obtain a relaxed sulfur-in-fuel monitoring schedule under NSPS subpart GG for the operation of two stationary gas turbines which operate solely on natural gas?

A: Yes, EPA routinely grants custom monitoring schedules under 40 CFR part 60, subpart GG for units burning low sulfur fuels.

Abstract for [0200051]:

Q: Can Consolidated Edison Energy Massachusetts obtain a waiver from the requirement to conduct an initial performance test for NOX under 40 CFR part 60, subpart GG?

A: Yes, EPA will waive the performance test requirement where it believes that the source can demonstrate compliance with the standard using other means. In this case, the source will demonstrate compliance with the subpart GG NOX limit by installing, operating, and maintaining a NOX continuous emission monitoring (CEM) system in accordance with 40 CFR part 75, and conducting an initial RATA certification for the CEM system.

Abstract for [0200052]:

Q: Can Massachusetts Institute of Technology obtain a relaxed sulfur-in-fuel monitoring schedule under NSPS subpart GG for the operation of a stationary gas turbine which operates solely on natural gas?

A: Yes, EPA routinely grants custom monitoring schedules under 40 CFR part 60, subpart GG for units burning low sulfur fuels.

Abstract for [0200053]:

Q: Can Sithe's Fore River and Mystic facilities obtain a relaxed sulfur-in-fuel monitoring schedule under NSPS subpart GG for the operation of stationary gas turbines with a primary fuel of natural gas and a secondary fuel of very-low sulfur distillate oil?

A: Yes, EPA routinely grants custom monitoring schedules under 40 CFR part 60, subpart GG for units burning low sulfur fuels.

Abstract for [0200054]:

Q: May Sithe's Fore River and Mystic facilities measure nitrogen oxides (NOX), sulfur dioxide (SO2), and particulate matter (PM) at the heat recovery steam generator (HRSG) outlet instead of measuring upstream and downstream of the duct burner during the subparts GG and Da initial performance test? Also, may Sithe use method 20 instead of method 7E for the initial performance test? Can Sithe obtain a custom CEMS quality assurance/quality control (QA/QC) regimen?

A: Yes, EPA has determined that in these specific cases the proposed alternatives to the test methods, sampling points, and CEMS QA/QC requirements will continue to ensure compliance with the emission limits.

Abstract for [0200055]:

Q: Contrary to what is required under 40 CFR 60.153(b)(2), subpart O, is it permissible to locate an oxygen monitor downstream of any multiple hearth incinerator rabble shaft cooling air inlet into the incinerator exhaust gas stream, fan, ambient air recirculation damper, or any other source of dilution air?

A: Yes, providing certain conditions are met. EPA has concurred with a multiple hearth incinerator owner/operator's determination that a stack gas extractive oxygen CEMS can provide a valid surrogate indicator of incinerator exhaust gas oxygen content with minimal interference from sources of dilution air, provided certain testing and operation and maintenance (O&M) practices are implemented, including reporting requirements.

Abstract for [0200056]:

Q: Will EPA exempt the U.S. Navy under 40 CFR 60.332 for a new Turbine Test Facility to be installed in the City of Philadelphia?

A: Yes, Region III approves the exemption from the nitrogen oxides standard in subpart GG because this new installation meets the conditions specified in 40 CFR 60.332 as both a military turbine installation and a manufacturer test facility for efficiency improvements and emissions reductions.

Abstract for [0200057]:

Q: Does EPA consider a “drop out” box with water sprays an example of a wet scrubbing control device?

A: Yes. The Stationary Source Control Techniques Document for Fine Particulate Matter (EPA, 1998) defines wet scrubbers as “particulate matter (PM) control devices that rely on direct and irreversible contact of a liquid with the PM.” Therefore, a “drop-out” box with water sprays is considered to be an example of a wet scrubbing control device and should be in compliance with the regulations accordingly.

Abstract for [0200058]:

Q: Will EPA approve an alternative testing procedure for four simple cycle combustion turbines that use a certified continuous emission monitor that has been certified under 40 CFR part 75?

A: The owner has demonstrated that the concentration of oxygen is not stratified across the diameter of the exhaust stack. Therefore, subject to certain conditions, EPA approves this request.

Abstract for [0200059]:

Q: Will EPA approve an alternative monitoring plan for a portable combustor at the gasoline loading rack at Marathon Ashland Petroleum LLC's Detroit, Michigan refinery?

A: Yes. Because the request is consistent with EPA's policy for approval of an alternative monitoring plan for miscellaneous fuel gas streams, EPA approves the request.

Abstract for [0200060]:

Q1: Does the replacement of an air grid on an FCCU catalyst regenerator trigger NSPS subpart J?

A1: If the Air Grid Replacement Project does not cause an increase in the emission rate of PM, SO2, or CO, as presented by MAP, it will not trigger NSPS. MAP is required to demonstrate that there will be no emission increase via CEM data and emissions tests.

Q2: Does the Air Grid Replacement Project qualify for the exemption of modification for routine maintenance, repair, and replacement in 40 CFR 60.14(e)(1)?

A2: No. The Air Grid Replacement Project is not a regular, customary or standard undertaking for the purposes of maintaining the plant in its present condition.

Abstract for [0200061]:

Q: Will EPA approve a higher operating temperature for ten wells at a landfill?

A: Yes. Based on the supporting information presented by the landfill, it appears that the methanogenic process is still at an anaerobic phase at the higher landfill gas temperatures and no evidence of subsurface landfill fire is present at the site.

Abstract for [0200062]:

Q: Will EPA grant a coal preparation plant a waiver from the NSPS general provision reporting and recordkeeping requirements for all of its coal handling system, except the dust collector?

A: No. The NSPS general provisions do not provide for the complete waiving of such reporting or recordkeeping requirements.

Abstract for [0200063]:

Q: Will EPA grant a waiver from the NSPS general provision reporting and recordkeeping requirements for a coal mine's processing and conveying equipment?

A: No. The NSPS general provisions do not provide for the complete waiving of such reporting or recordkeeping requirements.

Abstract for [0200064]:

Q: At what point does the custody transfer exemption apply to petroleum liquid storage vessels in natural gas production processes?

A: There is no set point for every facility where the custody transfer exemption applies. If the petroleum liquid storage vessels are located after any type of processing or treatment, the custody transfer exemption does not apply. It is possible that the custody transfer exemption may apply to different facilities at different points in the natural gas production process.

Abstract for [0200065]:

Q1: Are turbines manufactured before October 3, 1977 and maintained by Alyeska before that date, but that did not begin initial operation on the Trans-Alaska Pipeline System (TAPS) until after that date subject to NSPS subpart GG?

A1: In the case of stationary gas turbines that are mass-produced and purchased in completed form, EPA considers the manufacturer as the original owner or operator. The turbines are not subject to subpart GG provided that they were not modified or reconstructed after October 3, 1977.

Q2: Are turbines manufactured before October 3, 1977 and not purchased by Alyeska until after that date, and that therefore did not begin initial operation on the TAPS until after that date subject to subpart GG?

A2: In the case of stationary gas turbines that are mass-produced and purchased in completed form, EPA considers the manufacturer as the original owner or operator. The turbines are not subject to subpart GG provided that they were not modified or reconstructed after October 3, 1977.

Q3: Are turbines manufactured before October 3, 1977, and purchased by Alyeska after that date from another owner who bought them before that date, subject to subpart GG even if they may not have been placed into operation by the previous owner before October 3, 1997?

A3: In the case of stationary gas turbines that are mass-produced and purchased in completed form, EPA considers the manufacturer as the original owner or operator. The turbines are not subject to subpart GG provided that they were not modified or reconstructed after October 3, 1977.

Q4: Do the requirements of subparts A and GG apply only to a turbine, as the “affected facility,” so that a turbine that is subject to these subparts is operated as a GG turbine no matter where it is operated on the TAPS?

A4: Under subparts A and GG, the turbine is the affected facility and the requirements of these subparts follow a turbine constructed, modified, or reconstructed after October 3, 1977, regardless of where the turbine is relocated. The affected facility is the stationary gas turbine and does not include the equipment that is powered by the turbine (such as a generator or pump).

Q5: Do turbines manufactured before October 3, 1977, become subject to subpart GG if they are treated as a pool of identical turbines and moved from location to location between TAPS pump stations to allow for the maintenance of turbines?

A5: Assuming that the maintenance does not result in a modification or reconstruction, and that the turbines are not otherwise modified or reconstructed, relocation of the turbine as part of a pool of identical turbines would not subject the turbine to subpart GG.

Q6: Does a turbine that is not subject to subpart GG (because it was not constructed, modified, or reconstructed after October 3, 1977) become subject to subpart GG if it is rotated into a location to replace a turbine that is subject to this subpart?

A6: No. A turbine that was not constructed, modified, or reconstructed after October 3, 1977, does not become subject to subpart GG simply because it is rotated into a location to replace a turbine that is subject to this subpart.

Abstract for [0200066]:

Q1: Will EPA approve a custom fuel monitoring schedule under NSPS subpart GG for a facility?

A1: Yes, EPA will approve the custom fuel monitoring schedule according to an August 14, 1987, national policy which allows the EPA regional offices to approve subpart GG custom fuel monitoring schedules on a case-by-case basis.

Q2: Will EPA approve use of the length-of-stain tube test for certain gas turbines?

A2: Yes, EPA approves the use of the length-of-stain tube test provided that the sulfur content of the gaseous fuel is well below the 2,000 ppmw threshold.

Abstract for [0200067]:

Q: Will EPA approve use of the length-of-stain tube test for certain gas turbines?

A: Yes, EPA approves the use of the length-of-stain tube test provided that the sulfur content of the gaseous fuel is well below the 1,600 ppmw threshold.

Abstract for [0200068]:

Q: Will EPA approve a custom fuel monitoring schedule under NSPS subpart GG for a facility?

A: Yes, EPA will approve the custom fuel monitoring schedule according to an August 14, 1987, national policy which allows the EPA regional offices to approve subpart GG custom fuel monitoring schedules on a case-by-case basis. In this case, approval is based on the understanding that there is no fuel-bound nitrogen and on following specific conditions for confirming sulfur variability of the pipeline natural gas.

Abstract for [0200069]:

Q1: Will EPA approve a custom fuel monitoring schedule under NSPS subpart GG for a facility?

A1: Yes, EPA will approve the custom fuel monitoring schedule according to an August 14, 1987, national policy which allows the EPA regional offices to approve subpart GG custom fuel monitoring schedules on a case-by-case basis. In this case, approval is based on the understanding that there is no fuel-bound nitrogen and on following specific conditions for confirming sulfur variability of the pipeline natural gas.

Q2: Will EPA approve use of the length-of-stain tube test for certain gas turbines?

A2: Yes, EPA approves the use of the length-of-stain tube test provided that the sulfur content of the gaseous fuel is well below the 1,600 ppmw threshold.

Q3: Will EPA approve a request to perform fuel sampling and analysis in lieu of sulfur dioxide stack testing under subpart Da?

A3: Yes, based upon the fact that sulfur dioxide emissions generated by burning pipeline quality natural gas should be at least one order of magnitude below the standard in subpart Da, EPA approves the request to perform fuel sampling in lieu of stack testing.

Abstract for [0200070]:

Q1: Will EPA grant a request to use the procedures for fuel sulfur content determination in section 2.3.3.1 of appendix D to part 75?

A1: Yes, EPA approves the use of this method when pipeline quality natural gas is the only fuel being burned.

Q2: Will EPA approve a custom fuel monitoring schedule under subpart GG for a facility?

A2: Yes, EPA will approve the custom fuel monitoring schedule according to an August 14, 1987, national policy which allows the EPA regional offices to approve subpart GG custom fuel monitoring schedules on a case-by-case basis. In this case, approval is based on the understanding that there is no fuel-bound nitrogen.

Abstract for [0200071]:

Q1: Will EPA approve a custom fuel monitoring schedule under NSPS subpart GG for a facility?

A1: Yes, EPA will approve the custom fuel monitoring schedule according to an August 14, 1987, national policy which allows the EPA regional offices to approve subpart GG custom fuel monitoring schedules on a case-by-case basis. In this case, approval is based on the sulfur content of the fuel being used and an understanding that there is no fuel-bound nitrogen.

Q2: Will EPA approve use of the length-of-stain tube test for certain gas turbines?

A2: Yes, EPA approves the use of the length-of-stain tube test provided that the sulfur content of the gaseous fuel is well below the 1,600 ppmw threshold.

Abstract for [0200072]:

Q: Will EPA approve a custom fuel monitoring schedule under NSPS subpart GG for a facility?

A: Yes, EPA will approve the custom fuel monitoring schedule according to an August 14, 1987, national policy which allows the EPA regional offices to approve subpart GG custom fuel monitoring schedules on a case-by-case basis. In this case, approval is based on the sulfur content of the fuel being used and the understanding that there is no fuel-bound nitrogen.

Abstract for [0200073]:

Q1: Will EPA approve a custom fuel monitoring schedule under NSPS subpart GG for a facility?

A1: Yes, EPA will approve the custom fuel monitoring schedule according to an August 14, 1987, national policy which allows the EPA regional offices to approve subpart GG custom fuel monitoring schedules on a case-by-case basis. In this case, approval is based on the sulfur content of the fuel being used and the understanding that there is no fuel-bound nitrogen.

Q2: Will EPA approve use of the length-of-stain tube test for certain gas turbines?

A2: Yes, EPA approves the use of the length-of-stain tube test provided that the sulfur content of the gaseous fuel is well below the 1,600 ppmw threshold.

Q3: Will EPA approve use of NOX CEMS as an alternative monitoring method to monitor the ratio of water to fuel?

A3: Yes, EPA grants this request because it is consistent with approval in a March 12, 1993, EPA guidance memorandum.

Q4: Will EPA approve a request not to have to correct NOX CEMS data to ISO conditions?

A4: Yes, EPA finds it acceptable to maintain NOX emissions below 25 ppmvd at 15 percent oxygen as it would ensure compliance with the applicable ISO—corrected subpart GG under all reasonably ambient conditions.

Q5: Will EPA allow use of NOX reference test method data collected during a RATA conducted on the plant's CEMS as an alternative to the initial NOX performance test?

A5: Yes, EPA will allow this use because the amount of sampling conducted during the RATA (a minimum of nine 21-minute test runs using the EPA reference methods) provides enough representative emissions data to determine compliance status.

Abstract for [0200074]:

Q: Will EPA approve a custom fuel usage monitoring schedule under subpart Dc for a facility?

A: Yes, the request is consistent with previous custom fuel usage monitoring schedules allowed under subpart Dc.

Abstract for [0200075]:

Q: Will EPA approve an alternative ASTM test method for monitoring the nitrogen content of fuel being burned?

A: Yes, because the proposed alternative method is capable of measuring close to the test target levels with minimal deviation and well within 5 percent of the mean, EPA approves the test method.

Abstract for [0200076]:

Q: Will EPA approve alternative monitoring requests for a refinery facility subject to subpart J?

A: Yes, EPA will approve the alternative monitoring requests, but with specific conditions and one modification from the proposed approach.

Abstract for [0200077]:

Q: Will EPA approve a custom fuel monitoring schedule under NSPS subpart GG for a facility?

A: Yes, EPA will approve the custom fuel monitoring schedule according to an August 14, 1987, national policy which allows the EPA regional offices to approve subpart GG custom fuel monitoring schedules on a case-by-case basis. In this case, approval is based on the understanding that there is no fuel-bound nitrogen and on following specific conditions for confirming sulfur variability of the pipeline natural gas.

Abstract for [0200078]:

Q: Will EPA approve water and fuel flow meters for two gas turbines?

A: Yes, EPA approves these meters because their accuracy meets the requirements of 40 CFR 60.334(a).

Abstract for [0200079]:

Q: Will EPA approve custom fuel monitoring for nitrogen and sulfur for a planned natural gas-fueled, turbine-driven pipeline compressor subject to subpart GG?

A: Yes, EPA approves a custom monitoring schedule, per 40 CFR 60.334(b)(2), that allows for no monitoring of fuel nitrogen as long as the affected source is supplied with solely pipeline quality natural gas. In addition, EPA approves a custom fuel monitoring schedule for sulfur. The schedule requires monitoring twice monthly for the first six months, and, if the affected source has test results less than 50 percent of the sulfur limit, then twice a year, during the first and third calendar quarters, as long as the affected source maintains compliance.

Abstract for [0200080]:

Q1: Will EPA allow Mirant Kendall to measure NOX, SO2, and PM for the new natural gas unit number 4 at the HRSG outlet instead of upstream and downstream of the duct burner during the subpart GG and subpart Da initial performance test? Can Kendall use Method 20 instead of Method 7E for the initial performance test?

A1: Yes, EPA has determined that in these specific cases the proposed alternatives to the test methods and sampling points will continue to ensure compliance with the emission limits.

Q2: Will EPA allow a custom CEMS QA/QC regimen?

A2: Yes, EPA has determined that in these specific cases the proposed alternative to the CEMS QA/QC requirements will continue to ensure compliance with the emission limits.

Abstract for [0200081]:

Q: Is the use of an adsorber and incinerator an acceptable alternate control system for subpart NNN and subpart RRR affected facilities?

A: Yes. Use of the control system and the proposed procedures for monitoring and ensuring proper operation and maintenance are acceptable.

Abstract for [0200082]:

Q: A refinery has process area reactors and distillation columns whose only gas streams are combusted in the refinery's fuel gas system. These gas streams are exempt from any compliance monitoring requirements under 40 CFR part 63, subpart G. Does 40 CFR 63.110(d)(10) also exempt those gas streams from the requirements of NSPS subparts NNN and RRR?

A: No. Section 63.110(d)(10) does not exempt the gas streams from meeting the requirements of NSPS subparts NNN and RRR.

Abstract for [0200083]:

Q: Are electric arc furnaces in steel forging plants regulated by subparts AA and AAa?

A: If a plant manufactures a product that comes from a mold and that product, as it comes out from the mold, is modified by rolling, forging, hot or cold working to alter its shape, the furnaces are regulated.

Abstract for [0200084]:

Q. Is outdated pharmaceutical waste considered an industrial waste that would make an incinerator a Commercial and Industrial Solid Waste Incineration (CISWI) Unit?

A. No. As the waste in question is from a warehouse, it is a municipal waste and, as a result, the unit is not subject to the CISWI regulations.

Abstract for [0200085]:

Q: For purposes of NSPS subpart H, what portions of a facility containing both sulfuric acid and liquid sulfur dioxide operations constitute a sulfuric acid plant?

A: On the basis of the information provided on this particular facility, only the sulfuric acid operations constitute a sulfuric acid plant under subpart H.

Abstract for [0200086]:

Q: A facility mines and crushes argillite and then fires it in kilns to produce lightweight aggregate. Are the lightweight aggregate product crushers/grinders, conveyors, screeners, and storage bins which follow the kilns subject to subpart OOO?

A: Yes. Even if no crushing or grinding takes place after the kilns, the subsequent material handling equipment would still be subject to subpart OOO as it is part of the nonmetallic mineral production line in which crushing and grinding of raw material takes place. The lightweight aggregate product is a nonmetallic mineral. The facility should also consider the potential applicability of subpart UUU to specific operations at the facility.

Abstract for [0200087]:

Q: Should facilities subject to NSPS subpart OOO submit routine reports to the appropriate agency with delegated authority for implementing the regulation, instead of EPA Region 4?

A: Yes. Facilities subject to NSPS subpart OOO only need to submit routine reports to the appropriate agency with delegated authority for implementing the regulation. There is no need to submit the reports to EPA Region 4.

Abstract for [0200088]:

Q: A facility crushes and grinds clay and then deposits it onto a storage pile. The clay is later removed from the storage pile and transferred by a conveyor to brick manufacturing equipment in a making room. Is the conveyor subject to subpart OOO?

A: No. The conveyor is not an affected facility in a production line at a nonmetallic mineral processing plant.

Dated: February 4, 2003.
Michael M. Stahl,
Director, Office of Compliance.

[FR Doc. 03-3585 Filed 2-12-03; 8:45 am]

BILLING CODE 6560-50-P